DEPARTMENT OF COMMERCE

National Oceanic and Atmospheric Administration

50 CFR Part 648

RIN 0648-XE236

Fisheries of the Northeastern United States; Amendment 25 to the Northeast Multispecies Fishery Management Plan; Atlantic Cod Stocks in Need of Conservation and Management

AGENCY: National Marine Fisheries Service (NMFS), National Oceanic and Atmospheric Administration (NOAA), Commerce.

ACTION: Notification of availability of fishery management plan amendment; request for comments.

SUMMARY: NMFS announces that the New England Fishery Management Council (Council) has transmitted Amendment 25 to the Northeast Multispecies Fishery Management Plan to the Secretary of Commerce for review. If approved, Amendment 25 would revise the stocks of Atlantic cod managed in the Northeast Multispecies Fishery Management Plan. This action is necessary to incorporate the best scientific information available into the fishery management plan. The intended effect of Amendment 25 is to revise the fishery management plan to manage Atlantic cod in U.S. waters as four stocks rather than two. This document is intended to alert the public to this action and provide an opportunity for comment.

DATES: Comments on Amendment 25 must be received on or before May 5, 2025.

ADDRESSES: You may submit comments on this document, identified by NOAA-NMFS-2024-0141, by the following method:

• Electronic Submission: Submit all electronic public comments via the Federal e-Rulemaking Portal. Go to https://www.regulations.gov and enter NOAA-NMFS-2024-0141 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Electronic copies of Amendment 25 may be obtained from https://www.regulations.gov and the New England Fishery Management Council website at https://www. https://www.nefmc.org/library/northeast-multispecies-groundfish-amendment-25. Electronic copies of the 2023 Research Track Assessment of Atlantic Cod may be obtained from https://apps-nefsc.fisheries.noaa.gov/saw/sasi.php.

FOR FURTHER INFORMATION CONTACT: Mark Grant, 978-281-9145, mark.grant@noaa.gov.

SUPPLEMENTARY INFORMATION: The New England Fishery Management Council manages the northeast multispecies (groundfish) fishery under the Northeast Multispecies Fishery Management Plan (FMP). Amendment 25 to the FMP would revise the current Atlantic cod stock management units to ensure that the FMP reflects the best scientific information available for stocks in need of conservation and management. Since its creation in 1985, the FMP has been based on scientific information indicating that Atlantic cod consist of two biological stock units: Gulf of Maine cod and Georges Bank cod. Recent scientific information indicates that Atlantic cod is more appropriately considered to consist of four biological stocks. Amendment 25 would revise the FMP to reflect the four stocks of Atlantic cod defined in the 2023 Research Track Assessment of Atlantic Cod (see ADDRESSES). A peer review of the research track stock assessment approved the outcomes and the 4-stock structure for Atlantic cod is now the best scientific information available (BSIA). A copy of the Summary Report of the Atlantic Cod Research Track Stock Assessment Peer Review is available at: https://www.fisheries.noaa.gov/s3//2023-08/PanelSummaryReportoftheAtlanticCodRTPeerReviewAugust172023-mlt-508-8-23-23ajd-508gw.pdf. After reviewing the National Standard guidelines implementing the Magnuson-Stevens Fishery Conservation and Management Act (Magnuson-Stevens Act), the Council has recommended that the four new Atlantic cod stocks in the FMP be:

• New stock unit of Eastern Gulf of Maine cod;

• New Stock unit of Western Gulf of Maine cod;

• Revised stock unit of Georges Bank cod; and

• New Stock unit of Southern New England Cod.

The overall geographic area managed under Amendment 25 would remain unchanged and would continue to encompass all Atlantic cod in U.S. waters (see Table 1 and Figure 1).

Table 1—Statistical Reporting Areas (SRA) Comprising the Stock Areas for the Four New Atlantic Cod Stock Units as Determined by the 2023 Atlantic Cod Research Track Assessment
Stock | SRAs
Eastern Gulf of Maine cod | 465, 467, 511, 512.
Western Gulf of Maine cod | 513, 514, 515, 521, 526, 541.
Georges Bank cod | 464, 522, 525, 542, 543, 551, 552, 561, 562.
Southern New England cod | 533, 534, 537, 538, 539, 611, 612, 613, 614, 615, 616, 621, 622, 623, 624, 625, 626, 627, 628, 629, 631, 632, 633, 634, 635, 636, 637, 638, 639.

Figure 1. Stock Areas for the Four New Atlantic Cod Stock Units and the Current Two Atlantic Cod Stock Units.

The Magnuson-Stevens Act requires that each Regional Fishery Management Council transmit any amendment it prepares to NMFS for review and approval, disapproval, or partial approval. The Magnuson-Stevens Act also requires that upon a Council's transmittal to NMFS of an amendment and associated regulations deemed necessary by the Council to implement the amendment, on or before the 5th day after the day on which a Council transmits the plan amendment, NMFS must immediately commence a review of the plan or amendment to determine whether the plan or amendment is consistent with the Act's national standards, other provisions of the Act, and any other applicable law. NMFS must also publish notification in the Federal Register that the amendment is available for public review and comment for a period of 60 days beginning on the date that the document is published. The transmittal date for Amendment 25 was February 27 2025. Although the stock units guide management decisions for the Northeast multispecies fishery, they are not formally codified within the regulatory text. Therefore, this action is administrative in nature with no immediate or direct impact on the fishery and/or the FMP's implementing regulations.

The Northeast Multispecies FMP specifies the management measures for 13 groundfish species (cod, haddock, yellowtail flounder, pollock, plaice, witch flounder, white hake, windowpane flounder, Atlantic halibut, winter flounder, redfish, ocean pout, and Atlantic wolffish) off the New England and Mid-Atlantic coasts. Some of these species (cod, haddock, yellowtail flounder, winter flounder, and windowpane flounder) are further sub-divided into individual stocks that are attributed to different geographic areas.

Section 301 of the Magnuson-Stevens Act (16 U.S.C. §§ 1801 et seq.) requires any fishery management plan or amendment be consistent with ten national standards. In developing Amendment 25, the Council considered the national standard guidelines for adding or removing a stock from an FMP (see ADDRESSES). The National Standard Guidelines at 50 CFR 600.305(c)(7) state that councils should periodically review FMPs and the Best Scientific Information Available (§ 600.315(a)) to determine if the stocks are appropriately defined. The guidelines at § 600.305(c) state that any stock that is predominately caught in Federal waters and is overfished or subject to overfishing, or likely to become overfished or subject to overfishing, is considered to require conservation and management. In the same paragraph, the guidelines also include a non-exhaustive list of factors that a council should consider when deciding whether stocks require conservation and management. In Amendment 25, the Council included an analysis of those factors as the basis for determining that the four cod stocks, as defined by the 2023 Research Track Assessment of Atlantic Cod, each require conservation and management.

The regulations implementing the National Standard 1 guidelines (§ 600.310(c)) include a summary of items to include in an FMP for each stock. This includes maximum sustainable yield, optimum yield, status determination criteria, and accountability measures. Management measures for the four Atlantic cod stocks that Amendment 25 would add to the FMP are included in a companion Council action titled Framework Adjustment 69 (Framework 69). Framework 69 also includes specifications (i.e., quotas) for the four new cod stocks and management measures to implement the specifications. On December 4, 2024, the Council adopted Framework 69 for submission to NMFS for review.

NMFS welcomes comments on the proposed FMP amendment through the end of the 60-day comment period. NMFS expects to publish, and request public review and comment on, proposed regulations to implement Framework 69 within this comment period. For public comments to be considered in the approval or disapproval decision on Amendment 25, those comments must be received by close of business on the last day of the comment period on Amendment 25. All comments received by the end of the Amendment 25 comment period will be considered in the approval/disapproval decision. If the comment period for the Framework 69 proposed rule overlaps with the Amendment 25 comment period announced in this document, comments on Framework 69 that pertain to the action to establish four stocks of cod, will be considered in the approval/disapproval decision for both Amendment 25 and Framework 69.

Authority: 16 U.S.C. 1801 et seq.

Dated: February 28, 2025.
Karen H. Abrams,
Acting Director, Office of Sustainable Fisheries, National Marine Fisheries Service.

[FR Doc. 2025-03571 Filed 3-4-25; 8:45 am]

BILLING CODE 3510-22-P